DEPARTMENT OF COMMERCE

International Trade Administration

Secretarial Business Development Mission to Mexico, June 17-20, 2002

AGENCY: International Trade Administration, Department of Commerce.

ACTION: Notice to announce secretary Evans' business development mission to Mexico during June 17-20, 2002.

SUMMARY: Secretary of Commerce Donald L. Evans will lead a senior-level business development mission to Mexico City and Monterrey, Mexico, on June 17-20, 2002. The focus of the mission will be to help U.S. companies explore business opportunities in Mexico. The delegation will include approximately 15 U.S.-based senior executives of small, medium and large U.S. firms representing, but not limited to, technology, equipment, and services in the following key growth sectors: energy and energy efficiency, environmental and water resources, information technology, telecommunications, transportation, medical and manufacturing. These key sectors reflect Mexico's infrastructure needs, the growth of a consumer society, and the boom in manufacturing created by NAFTA and proximity to the U.S.

DATES: Applications should be submitted to the Office of Business Liaison by May 1, 2002. Applications received after that date will be considered only if space and scheduling constraints permit.

FOR FURTHER INFORMATION CONTACT: Office of Business Liaison; Room 5062; Department of Commerce; Washington, DC 20230; Tel: (202) 482-1360; Fax: (202) 482-4054.

SUPPLEMENTARY INFORMATION:

Secretarial Business Development Mission to Mexico

June 17-20, 2002.

Mission Statement

I. Description of the Mission

Secretary of Commerce Donald L. Evans will lead a senior-level business development mission to Mexico City and Monterrey, Mexico.

The focus of the mission will be to help U.S. companies explore business opportunities in Mexico. The delegation will include approximately 15 U.S.-based senior executives of small, medium and large U.S. firms representing, but not limited to, technology, equipment, and services in the following key growth sectors: energy and energy efficiency, environmental and water resources, information technology, telecommunications, transportation, medical, and manufacturing. These key sectors reflect Mexico's infrastructure needs, the growth of a consumer society, and the boom in manufacturing created by NAFTA and proximity to the U.S. market.

II. Commercial Setting for the Mission

Mexico is the second largest export market for the United States after Canada. U.S. exports to Mexico totaled $102 billion in 2001, with substantial sales in virtually every product sector in which the United States is globally competitive. U.S. exports to Mexico have registered annual growth of more than ten percent in five of the last six years, peaking in 2000 with a 28 percent increase. Although the Mexican economy cooled in tandem with the United States economy during 2001, prospects are favorable for a renewal in growth in the latter half of 2002.

Mexico recently obtained “investment grade” status for its public debt from both Moody's and Standard and Poor's, a reflection of the country's sound economic fundamentals and stable macroeconomic policy.

III. Goals for the Mission

The mission aims to further both U.S. commercial policy objectives and advance specific business interests. It is intended to:

• Assist individual U.S. companies to pursue export and other new business opportunities in Mexico, by introducing them to key host government decision-making officials and to potential business partners;

• Assist new-to-market firms to evaluate the market potential for their products and gain an understanding of how to operate successfully in Mexico's commercial environment; and

• Enhance the dialogue between government and industry on issues affecting the development of U.S.-Mexican commercial relations.

• Emphasize the benefits of international trade for improving the standard of living and quality of life for all mankind.

• Highlight examples of the corporate citizenship and active involvement by U.S. businesses in the communities where they operate in the United States and abroad.

IV. Scenario for the Mission

The Business Development Mission will provide participants with exposure to high-level business and government contacts, and an understanding of market trends and the commercial environment. American Embassy officials will provide a detailed briefing on the economic, commercial, and political climate, and participants will receive individual counseling on their specific interests from U.S. Commercial Service industry specialists. Meetings will be arranged as appropriate with senior government officials and potential business partners. Representational events will also be organized to provide mission participants with opportunities to meet Mexico's business and government representatives, as well as U.S. business people living and working in Mexico.

The tentative trip itinerary will be as follows:

June 17th—Arrive Mexico City

June 18th—One-on-One Business Meetings in Mexico City

June 19th—Travel to Monterrey, One-on-One Business Meetings in Monterrey

June 20th—One-on-One Business Meetings in Monterrey

June 21st—Optional spin-off trips to Guadalajara or Tijuana for further business meetings, at additional expense.

V. Criteria for Participant Selection

The recruitment and selection of private sector participants for this mission will be conducted according to the “Statement of Policy Governing Department of Commerce-Overseas Trade Missions” established in March 1997. Promotion and recruitment will include, but not be limited to, posting on appropriate Department of Commerce web pages, notification in the Federal Register, and through distribution of the trade mission statement and further information to national and other trade associations and trade publications. Approximately 15 companies will be selected for the mission. Companies will be selected according to the criteria set out below.

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Companies will be selected for participation in the mission on the basis of:

• Consistency of the company's goals with the scope and desired outcome of the mission as described herein;

• Relevance of a company's business and product line to market opportunities in Mexico;

• Seniority of the representative of the designated company;

• Past, present, or prospective international business activity;

• Diversity of company size, type, location, demographics, and traditional under-representation in business;

• Degree of company's commitment to corporate citizenship.

An applicant's partisan political activities (including political contributions) are irrelevant to the selection process.

VI. Time Frame for Applications

Applications for the trade mission to Mexico were made available on March 22, 2002. The fee to participate in the mission will be between $4,000-$6,000. Expenses for travel, lodging, and some meals will be the responsibility of each participant. For additional information on the trade mission or to obtain an application, contact the Department of Commerce Office of Business Liaison at 202-482-1360. Applications should be submitted to the Office of Business Liaison by May 1, 2002, in order to ensure sufficient time to obtain in-country appointments for applicants selected to participate in the mission. Applications received after that date will be considered only if space and scheduling constraints permit.

Contact: Office of Business Liaison, Room 5062, Department of Commerce, Washington, DC 20230, Tel: (202) 482-1360, Fax: (202) 482-4054.

Mission Web Site: http://www.doc.gov/mexicotrademission.

Dated: April 8, 2002.
Laron Jensen,
Acting Deputy Director General.

[FR Doc. 02-8862 Filed 4-11-02; 8:45 am]

BILLING CODE 3510-FP-P